ENVIRONMENTAL PROTECTION AGENCY

[OPP-100164; FRL-6760-1]

Versar, Inc.; Transfer of Data

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be tranferred to Versar, Inc. in accordance with 40 CFR 2.307(h)(3) and 2.308(i)(2). Versar, Inc. has been awarded a contract to perform work for OPP, and access to this information will enable Versar, Inc. to fulfill the obligations of the contract.

DATES: Versar, Inc. will be given access to this information on or before December 18, 2000.

FOR FURTHER INFORMATION CONTACT: By mail: Erik R. Johnson, FIFRA Security Officer, Information Resources and Services Division (7502C), Office of Pesticide Programs, Environmental Protection Agency, 1200 Pennsylvania Ave., NW., Washington, DC 20460; telephone number: 703-305-7248; e-mail address: johnson.erik@epa.gov.

SUPPLEMENTARY INFORMATION:

I. General Information

A. Does this Action Apply to Me?

This action applies to the public in general. As such, the Agency has not attempted to describe all the specific entities that may be affected by this action. If you have any questions regarding the applicability of this action to a particular entity, consult the person listed under FOR FURTHER INFORMATION CONTACT.

B. How Can I Get Additional Information, Including Copies of this Document and Other Related Documents?

You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/.

II. Contractor Requirements

Under contract number 68-W0-0130, the contractor will perform the following:

The Contractor shall perform technical reviews of studies containing pesticide exposure and related data in support of registration, reregistration, and special review activities of the Health Effects Division (HED). These studies may include: (1) Re-entry or post application exposure studies; (2) exposure monitoring data on the subject chemical submitted by registrants on pesticide handling operations; (3) exposure studies from the open scientific literature; and (4) exposure studies using data from aggregate pesticide chemicals (e.g., Pesticide Handlers Exposure Database).

For each assigned study, a draft written report shall be submitted by the Contractor to the EPA Work Assignment Manager. Draft reports shall: (1) Document the contents of the studies; (2) note any discrepancies, inadequacies, and unresolved issues; (3) provide appropriate exposure calculations, correlations, and plots; and (4) provide a summary discussion and conclusions resulting from the review.

This contract involves no subcontractors.

The OPP has determined that the contracts described in this document involve work that is being conducted in connection with FIFRA, in that pesticide chemicals will be the subject of certain evaluations to be made under this contract. These evaluations may be used in subsequent regulatory decisions under FIFRA.

Some of this information may be entitled to confidential treatment. The information has been submitted to EPA under sections 3, 4, 6, and 7 of FIFRA and under sections 408 and 409 of FFDCA.

In accordance with the requirements of 40 CFR 2.307(h)(3), the contract with Versar, Inc., prohibits use of the information for any purpose not specified in the contract; prohibits disclosure of the information to a third party without prior written approval from the Agency; and requires that each official and employee of the contractor sign an agreement to protect the information from unauthorized release and to handle it in accordance with the FIFRA Information Security Manual. In addition, Versar, Inc. is required to submit for EPA approval a security plan under which any CBI will be secured and protected against unauthorized release or compromise. No information will be provided to Versar, Inc. until the requirements in this document have been fully satisfied. Records of information provided to Versar, Inc. will be maintained by EPA Project Officers for the contract. All information supplied to Versar, Inc. by EPA for use in connection with the contract will be returned to EPA when Versar, Inc. has completed its work.

List of Subjects

Environmental protection, Business and industry, Government contracts, Government property, Security measures.

Dated: December 7, 2000.
Richard D. Schmitt,
Acting Director, Information Resources and Services Division, Office of Pesticide Programs.

[FR Doc. 00-31729 Filed 12-12-00; 8:45 am]

[BILLING CODE 6560-50-S